DEPARTMENT OF VETERANS AFFAIRS

Advisory Committee on Women Veterans, Notice of Meeting

The Department of Veterans Affairs gives notice under Public Law 92-463 that a meeting of the Advisory Committee on Women Veterans will be held on March 12-14, 2002, from 8:30 a.m. until 5 p.m., at the Department of Veterans Affairs Central Office (VACO), 810 Vermont Avenue, NW., Conference room 230, Washington, DC.

The purpose of the Committee is to advise the Secretary of Veterans Affairs regarding the needs of women veterans with respect to healthcare, rehabilitation, compensation, outreach, and other programs and activities administered by the Department of Veterans Affairs designed to meet such needs. The Committee will make recommendations to the Secretary regarding such activities.

All sessions will be open to the public. Those who plan to attend should contact Ms. Maryanne Carson, Department of Veterans Affairs, Center for Women Veterans (00W), 810 Vermont Avenue, NW., Washington, DC 20420, at (202) 273-6193. Tentative agenda follows:

Tuesday, March 12

8:30a Full Advisory Committee—Conference Room 230, Welcome and Introduction of New Members, Dr. Irene Trowell-Harris, Director Center for Women Veterans

9:00a Presentation of Appointment Certificates & Photo Op, The Honorable Anthony Principi, Secretary of Veterans Affairs

9:30a Review Agenda, Review March and June 2001 Minutes, Colonel Karen Ray, Chair

9:45a Welcome and Greet Committee, Dr. Leo Mackay, Deputy Secretary of Veterans Affairs (awaiting confirmation)

10:00a Briefing: Assistant Secretary for Congressional & Legislative Affairs, The Honorable Gordon H. Mansfield

10:30a BREAK

10:45a Briefing: Acting, Under Secretary for Health, Frances M. Murphy; Update—Veterans Health Administration Issues (awaiting confirmation)

11:15a Briefing: National Cemetery Administration

11:30a LUNCH

1:15p Veterans Benefits Administration, Lynda Petty, Women Veterans Coordinator

2:00p Briefing: VA Pharmacy Service (awaiting confirmation)

2:30p Briefings: National Strategic Work Group on Women Veterans Health Programs and Women Veterans Coordinator Study, Carole Turner, Director, Women Veterans Health Program

3:00p BREAK

3:15p Update on Center for Women Veterans, Dr. Irene Trowell-Harris

3:30p Advisory Committee Follow-up: Chair, Discussions: Full Committee

• Summit 2000 Proceedings

• Advisory Committee 2000 Report

• Agenda for Visit to the Hill

5:00p Adjourn

Wednesday, March 13

8:30a Update: Survey of Veterans, Susan Krumhaus, Office of Policy and Planning (awaiting confirmation)

10:00a Update: Center for Minority Veterans, Charles W. Nesby, Director

10:30a BREAK

10:45a Briefing: VA Funded Research on Women Veterans, John R. Feussner, MD, MPH, Chief, Research and Development Officer (awaiting confirmation)

11:30a Briefing: Veterans Benefits Administration, Robert Epley, Director, Compensation and Pension Service (awaiting confirmation)

12n LUNCH

1:15p Meeting with Congressional Staffers, (Depart VACO 1:30p) (awaiting confirmation)

3:00p Return to VACO

3:15p BREAK

3:30p Discussion: Full Committee, De-brief: Meeting on the Hill, 2001 Boston Site Visit: Minutes and Follow-up

5:00p Adjourn

Thursday, March 14

Executive Session

9:00a Update: Facilities with Areas of Concern, Carole Turner

9:30a Budget Update—Office of Finance, Kathleen Hamilton, Budget Analyst

10:00a Discussion—Chair, Agenda Items, FY 2002 Objectives, Missed Meetings, National Agenda for Women, Vision Statement

10:30a BREAK

10:45a (Discussion Continued)

11:00a 2002 Site Visit Designation, Agenda for Site Visit Target: “Hot” Areas

11:30a 2002 Advisory Committee Report, 2002 Timeline, Title of Report

12n LUNCH

1:30p (Discussion Continued)

2:00p Discussion: Committee, Individual Updates

3:30p Next Meeting

Adjourn

Dated: February 27, 2002.
By Direction of the Secretary:
Nora E. Egan,
Committee Management Officer.

[FR Doc. 02-5167 Filed 3-4-02; 8:45 am]

BILLING CODE 8320-01-M